ENVIRONMENTAL PROTECTION AGENCY

40 CFR Part 80

Regulation of Fuels and Fuel Additives: Changes to Renewable Fuel Standard Program

CFR Correction

In Title 40 of the Code of Federal Regulations, Parts 72 to 80, revised as of July 1, 2010, on page 1160, in § 80.1466, in paragraph (h)(1), the equation is corrected to read as follows:

§ 80.1466 What are the additional requirements under this subpart for RIN-generating foreign producers and importers of renewable fuels for which RINs have been generated by the foreign producer?

* * * * *

(h) * * *

(1) * * *

Bond = G * $0.01

* * * * *

[FR Doc. 2011-7822 Filed 3-31-11; 8:45 am]

BILLING CODE 1505-01-D